FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 020308N.

Name: ACM International, Corp. dba ACM Cargo.

Address: 2225 W. Commonwealth Ave., Ste. 102, Alhambra, CA 91803.

Date Revoked: December 2, 2007.

Reason: Failed to maintain a valid bond.

License Number: 020345N.

Name: Cargo Station dba Accord Logistics USA.

Address: 2726 Fruitland Ave., Vernon, CA 90058.

Date Revoked: November 23, 2007.

Reason: Failed to maintain a valid bond.

License Number: 015871N.

Name: Continental Shipping Line, Inc.

Address: 34 Mardi Gras Rd., Coronado, CA 92118.

Date Revoked: November 26, 2007.

Reason: Failed to maintain a valid bond.

License Number: 019505NF.

Name: Delmar Logistics (GA) Inc.

Address: 4345 International Parkway, Ste. 110, Atlanta, GA 30354.

Date Revoked: December 19, 2007.

Reason: Surrendered license voluntarily.

License Number: 004114F.

Name: Faith Freight Forwarding.

Address: 6701 NW 7th Street, Ste. 190/199, Miami, FL 33126.

Date Revoked: December 5, 2007.

Reason: Failed to maintain a valid bond.

License Number: 014393N

Name: K-Logic, Inc.

Address: 360 N. Sepulveda Blvd., Ste. 1056, El Segundo, CA 90245.

Date Revoked: December 20, 2007.

Reason: Failed to maintain a valid bond.

License Number: 003001F.

Name: Kathleen Tansey Riggs Dba Tansey & Riggs.

Address: 25422 Trabuco Rd., Ste. 105-446, Lake Forest, CA 92630.

Date Revoked: November 30, 2007.

Reason: Failed to maintain a valid bond.

License Number: 020470N.

Name: Mega Logistics International, Inc.

Address: 1110 South Ave., @ Lois Lane, Staten Island, NY 10314.

Date Revoked: December 5, 2007.

Reason: Surrendered license voluntarily.

License Number: 017574N.

Name: Monetti Distributors, Inc. Dba Monetti Cargo (M.C.) Int'l. Freight Forwarders.

Address: 8601 Nw 81st Rd., Ste. 15-16, Medley, Fl 33166.

Date Revoked: December 19, 2007.

Reason: Failed to maintain a valid bond.

License Number: 020010F.

Name: Mudanza La Gaviota Shipping Inc.

Address: 468 Roseville Ave., Newark, NJ 07107.

Date Revoked: December 7, 2007.

Reason: Failed to maintain a valid bond.

License Number: 018053N.

Name: Pacific-Net Logistics (NYC) Inc.

Address: 151-02 132nd Ave., (AIP), Jamaica, NY 11434.

Date Revoked: December 15, 2007.

Reason: Failed to maintain a valid bond.

License Number: 016874F.

Name: 7M Transport, Inc.

Address: 18306 Lazy Moss Lane, Ste. 207, Spring, TX 77379

Date Revoked: November 22, 2007.

Reason: Failed to maintain a valid bond.

License Number: 003085F.

Name: Schley International, Inc.

Address: 1415 East Dublin-Granville Rd., Ste. 115, Columbus, OH 43229.

Date Revoked: November 22, 2007.

Reason: Failed to maintain a valid bond.

License Number: 001992F.

Name: David A. Spreen Dba Spreen Import/Export Ltd.

Address: 40104 FM 2979 Rd., Hempstead, TX 77445.

Date Revoked: December 4, 2007.

Reason: Surrendered license voluntarily.

License Number: 019894NF.

Name: Swift Global Logistics, Inc.

Address: 6040 Avion Drive, Ste. 210, Los Angeles, CA 90045.

Date Revoked: December 7, 2007.

Reason: Failed to maintain valid bonds.

License Number: 008321N.

Name: Transworld Freight Systems, Inc.

Address: 747 S. Glasgow Ave., Inglewood, CA 90301.

Date Revoked: December 15, 2007.

Reason: Failed to maintain a valid bond.

License Number: 003002F.

Name: Sea to Sea Foreign Freight Forwarder Inc.

Address: The Bourse Building, Ste. 964, 21 South 5th Street, Philadelphia, PA 19106.

Date Revoked: December 31, 2007.

Reason: Surrendered license voluntarily.

License Number: 015129N.

Name: Vanguard Moving and Storage Co., Inc. Dba Guardship.

Address: 8415 Kelso Drive, Ste. 300, Baltimore, MD 21221.

Date Revoked: November 29, 2007.

Reason: Failed to maintain a valid bond.

License Number: 019176N.

Name: Superior Transportation, L.L.C.

Address: 319 Wilson Ave., Newark, NJ 07105.

Date Revoked: November 14, 2007.

Reason: Surrendered license voluntarily.

Sandra L. Kusumoto,
Director, Bureau of Certification and Licensing.

[FR Doc. E8-686 Filed 1-15-08; 8:45 am]

BILLING CODE 6730-01-P